DEPARTMENT OF ENERGY

Federal Energy Regulatory Commission

Notice of Application for Amendment of License and Soliciting Comments, Motions To Intervene, and Protests

February 21, 2002.

Take notice that the following hydroelectric application has been filed with the Commission and is available for public inspection:

a. Application Type: Amendment of License.

b. Project No.: 2114-105.

c. Date Filed: February 11, 2002.

d. Applicant: Public Utility District No. 2 of Grant County (Grant), WA.

e. Name of Project: Priest Rapids Hydroelectric Project.

f. Location: On the Columbia River, in Grant, Yakima, Kittitas, Douglas, Benton, and Chelan counties, Washington. The project occupies federal lands managed by the U.S. Bureau of Land Management, U.S. Bureau of Reclamation, U.S. Department of Energy, U.S. Department of the Army, and U.S. Fish and Wildlife Service.

g. Filed Pursuant to: Federal Power Act, 16 U.S.C. 791(a)-825(r).

h. Applicant Contact: Don Godard, Public Utility District No. 2 of Grant County, WA, P.O. Box 878, Ephrata, WA, 98823; (509) 754-3541.

i. FERC Contact: Bob Easton (202) 219-2782, e-mail: robert.easton@ferc.fed.us. The Commission cannot accept comments, motions to intervene or protests sent by e-mail; these documents must be filed as described below.

j. Deadline for filing comments, motions to intervene, and protests: 14 days from the issuance date of this notice.

All documents (original and eight copies) should be filed with: Magalie R. Salas, Secretary, Federal Energy Regulatory Commission, 888 First Street, NE., Washington, DC 20426. Comments, protests and interventions may be filed electronically via the internet in lieu of paper. See 18 CFR 385.2001(a)(1)(iii) and the instructions on the Commission's web site at http://www.ferc.gov under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Filing: Grant proposes to continue testing the use of a temporary overflow spill gate for passing juvenile salmon and steelhead downstream of Wanapum dam. The overflow spill gate is a bulkhead-type steel structure measuring 57 feet wide and 79 feet high. Flow through the overflow spill gate would be controlled by the forebay elevation and a weir structure and test flows would range up to 11,000 cubic feet per second (cfs). In an environmental assessment issued in March 1996, the Commission evaluated the environmental effects of the temporary overflow spill gate for providing fish passage at Wanapum dam. In orders dated March 29, 1996, and June 20, 1997, the Commission approved the testing of this device. Both orders required Grant to file any plans for additional testing with the Commission for approval. The immediate amendment application requests approval for continued testing of the temporary overflow spill gate with minor modifications, including removal of three vertical partitions, increasing the test flows from approximately 5,000 cubic feet per second (cfs) to 11,000 cfs, and controlling flow with a weir rather than the tainter gate. Comments on the Amendment of License are due on the date listed in item j above.

l. A copy of the application is available for inspection and reproduction at the Commission's Public Reference Room at 888 First Street NE., Room 2A, Washington, DC 20426, or by calling (202) 208-1371. This filing may also be viewed on the web at http://www.ferc.gov using the “RIMS” link, select “Docket#” and follow the instructions (call 202-208-2222 for assistance).

m. Individuals desiring to be included on the Commission's mailing list should indicate by writing to the Secretary of the Commission.

Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Magalie R. Salas,
Secretary.

[FR Doc. 02-4603 Filed 2-26-02; 8:45 am]

BILLING CODE 6717-01-P